DEPARTMENT OF HOMELAND SECURITY

Transportation Security Administration

Intent to Request Renewal From OMB of One Current Public Collection of Information: Employment Standards

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by February 14, 2006.

ADDRESSES: Katrina Wawer, Information Collection Specialist, Office of Transportation Security Policy, TSA-9, Transportation Security Administration, 601 South 12th Street, Arlington, VA 22202-4220.

FOR FURTHER INFORMATION CONTACT: Katrina Wawer at the above address or by telephone (571) 227-1995 or facsimile (571) 227-2594.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0006; Employment Standards, 49 CFR Parts 1542 and 1544. The Aviation and Transportation Security Act of 2001 (Pub. L. 107-71, 115 Stat. 597, Nov. 19, 2001), transferred the responsibility for civil aviation security, including the prescribing of employment standards as outlined above, from the Federal Aviation Administration (FAA) to TSA. In February 2002, TSA implemented its employment standards at 49 CFR parts 1542 and 1544, while the FAA 14 CFR parts 107 and 108 were repealed. Airport operators maintain records of compliance with part 1542 for those employees with access privileges to secure areas of the airport. Air carrier operators maintain records of compliance with part 1544 for selected crew and security employees. TSA civil aviation security inspectors review these records to ensure that the safety and security of the public is not compromised. TSA estimates the annual burden hours to be 130,005.

Issued in Arlington, Virginia, on December 12, 2005. .
Lisa S. Dean,
Privacy Officer.

[FR Doc. E5-7408 Filed 12-15-05; 8:45 am]

BILLING CODE 4910-62-P